DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on August 15, 2007, vol. 72, no. 157, page 45864. 49 U.S.C. Sections 44702 and 44703 authorizes the issuances of airman certificates. FAR Part 65 prescribes requirements for mechanics, repairman, parachute riggers, and inspection authorizations.

DATES: Please submit comments by November 28, 2007.

FOR FURTHER INFORMATION CONTACT: Carla Mauney at Carla.Mauney@faa.gov.

SUPPLEMENTARY INFORMATION:

Federal Aviation Administration (FAA)

Title: Certificate: Mechanic, Repairman, Parachute Rigger, and Inspection Authorization—FAR Part 65.

Type of Request: Revision of a currently approved collection.

OMB Control Number: 2120-0022.

Forms(s): FAA form 8610-1 and FAA Form 8610-2.

Affected Public: An estimated 41,750 respondents.

Frequency: This information is collected on occasion.

Estimated Average Burden per Response: Approximately 46 minutes per response.

Estimated Annual Burden Hours: An estimated 31,838 hours annually.

Abstract: 49 U.S.C. Sections 44702 and 44703 authorizes the issuances of airman certificates. FAR Part 65 prescribes requirements for mechanics, repairman, parachute riggers, and inspection authorizations. Information collection shows applicant eligibility.

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Dated: Issued in Washington, DC, on October 22, 2007.
Carla Mauney,
FAA Information Collection Clearance Officer, IT Enterprises Business Services Division, AES-200.

[FR Doc. 07-5319 Filed 10-26-07; 8:45 am]

BILLING CODE 4910-13-M